DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: November 15, 2012. 10:00 a.m.

PLACE: Room 2C, 888 First Street NE., Washington, DC 20426.

STATUS: Open.

MATTERS TO BE CONSIDERED: Agenda.

* Note—Items listed on the agenda may be deleted without further notice.

CONTACT PERSON FOR MORE INFORMATON: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

987TH—MEETING

Regular Meeting

November 15, 2012, 10 a.m.

Item No. | Docket No. | Company
Administrative
A-1 | AD02-1-000 | Agency Business Matters.
A-2 | AD02-7-000 | Customer Matters, Reliability, Security and Market Operations.
A-3 | AD06-3-000 | 2013 Winter Assessment.
A-4 | AD07-13-005 | 2012 Report on Enforcement.
Electric
E-1 | ER12-480-001, ER12-480-002 | Midwest Independent Transmission System Operator, Inc.
E-2 | EL12-103-000 | J.P. Morgan Ventures Energy Corporation.
E-3 | RM11-26-000 | Promoting Transmission Investment Through Pricing Reform.
E-4 | RM10-11-001 | Integration of Variable Energy Resources.
E-5 | RM12-3-000 | Revisions to Electric Quarterly Report Filing Process.
E-6 | OMITTED |
E-7 | OMITTED |
E-8 | ER11-4214-001, ER11-4214-000 | PacifiCorp.
E-9 | ER12-469-000, ER12-469-001 | PJM Interconnection, L.L.C.
E-10 | ER05-1056-006 | Chehalis Power Generating, L.P.
E-11 | OMITTED |
E-12 | EL12-89-000 | The Incorporated Village of Port Jefferson v. National Grid Generation LLC.
E-13 | OMITTED |
E-14 | ER12-1753-000 | Wyoming Colorado Intertie, LLC.
E-15 | EL12-87-000 | Los Angeles Department of Water and Power v. PacifiCorp.
Miscellaneous
M-1 | AD12-12-000 | Coordination Between Natural Gas and Electricity Markets.
Gas
G-1 | RP13-184-000 | Wyoming Interstate Company, L.L.C.
G-2 | RP13-185-000 | Viking Gas Transmission Company.
G-3 | RM13-1-000 | Enhanced Natural Gas Market Transparency.
G-4 | RP10-951-000 | Texas Gas Service Company, a Division of ONEOK, Inc. v. El Paso Natural Gas Company.
Hydro
H-1 | P-2165-030 | Alabama Power Company.
H-2 | P-2479-012 | Pacific Gas and Electric Company.
Certificates
C-1 | CP11-546-000 | Panhandle Eastern Pipe Line Company, LP.

Issued November 8, 2012.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2012-27709 Filed 11-9-12; 11:15 am]

BILLING CODE 6717-01-P